DEPARTMENT OF COMMERCE

Economic Development Administration

13 CFR Chapter III

[Docket No.: 110119042-1041-01]

RIN 0610-XA04

Request for Comments: Review and Improvement of EDA's Regulations

Correction

In proposed rule document 2011-1937 beginning on page 5501 in the issue of Tuesday, February 1, 2011 make the following correction:

On page 5503, in the first column, in the 14th line, “March 14, 2011” should read “March 9, 2011”.

[FR Doc. C1-2011-1937 Filed 2-2-11; 8:45 am]

BILLING CODE 1505-01-D